NUCLEAR REGULATORY COMMISSION

Emergency Preparedness and Response Actions for Security Based Events

AGENCY: Nuclear Regulatory Commission.

ACTION: Notice of issuance.

SUMMARY: The U.S. Nuclear Regulatory Commission (NRC) has issued Bulletin (BL) 2005-02 to all holders of operating licenses for nuclear power reactors, except those who have permanently ceased operation and have certified that fuel has been removed from the reactor vessel. The U.S. Nuclear Regulatory Commission (NRC) is issuing this bulletin to:

1. Notify addressees about NRC staff's need for information associated with emergency preparedness (EP) for security-based events at a nuclear power plant;

2. Request addressees provide information to the NRC within 30 days of this bulletin regarding actions taken or planned to be taken in the areas discussed below:

a. Security-based emergency classification levels and emergency action levels (EALs), emergency response organization augmentation for security-based events, and a security-based EP drill and exercise program,

b. Accelerated NRC notifications and onsite protective measures;

3. If actions regarding the topics covered in this bulletin have not been taken, the addressees are requested to provide a schedule detailing expected completion dates for all pending activities; and

4. Require addressees to provide a written response to the NRC in accordance with 10 CFR 50.54(f).

This Federal Register notice is available through the NRC's Agencywide Documents Access and Management System (ADAMS) under accession number ML051990027.

DATES: The bulletin was issued on July 18, 2005.

ADDRESSES: Not applicable.

FOR FURTHER INFORMATION, CONTACT: Michael Norris at 301-415-4098 or by e-mail mbn@nrc.gov, Greg Casto at 301-415-4072 or by e-mail gac@nrc.gov, or Douglas Pickett at 301-415-1364 or e-mail dvp1@nrc.gov.

SUPPLEMENTARY INFORMATION: NRC Bulletin 2005-02 may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. The ADAMS number for the bulletin is ML051740058.

If you do not have access to ADAMS or if you have problems in accessing the documents in ADAMS, contact the NRC Public Document Room (PDR) reference staff at 1-800-397-4209 or 301-415-4737 or by e-mail to pdr@nrc.gov.

Dated at Rockville, Maryland, this 18th day of July 2005.
For the Nuclear Regulatory Commission.
Patrick L. Hiland,
Chief, Reactor Operations Branch, Division of Inspection Program Management, Office of Nuclear Reactor Regulation.

[FR Doc. E5-3943 Filed 7-22-05; 8:45 am]

BILLING CODE 7590-01-P